ENVIRONMENTAL PROTECTION AGENCY

[FRL-6580-1]

Proposed Settlement Under Section 122(g)(4) of the Comprehensive Environmental Response, Compensation, and Liability Act; Organic Chemical, Inc. Kent County, MI

AGENCY: Environmental Protection Agency (EPA).

ACTION: Notice; request for public comment on proposed CERCLA 122(g)(4) agreement.

SUMMARY: In accordance with section 122(g)(4) of the Comprehensive Environmental Response, Compensation and Liability Act of 1984, as amended (“CERCLA”), notification is hereby given for a proposed administrative agreement concerning the Organic Chemical, Inc. hazardous waste site at 3921 Chicago Drive, S.W. in Grandville, Kent County, Michigan (the “Site”). EPA proposes to enter into this agreement under the authority of section 122(g) of CERCLA. In addition to the review by the public pursuant to this document, the agreement has been approved by the United States Department of Justice. The proposed agreement resolves an EPA claim under CERCLA against 89 de minimis parties (the “Settling Parties”).

Under the proposed agreement, the Settling Parties will pay $199,998 into EPA's Hazardous Substances Superfund to resolve EPA's claims against them for response costs incurred by EPA at the Site. EPA incurred response costs investigating an imminent and substantial endangerment to human health and the environment posed by the presence of hazardous substances at the Site. EPA also incurred response costs overseeing clean-up activities conducted by potentially responsible parties at the site.

For thirty days following the date of publication of this notice, the Environmental Protection Agency will receive written comments relating to this proposed agreement. EPA will consider all comments received and may modify or withdraw its consent to this proposed agreement if comments disclose facts or considerations which indicate that the proposed agreement is inappropriate, improper, or inadequate. The EPA's response to any comments received will be available for public inspection at the U.S. EPA record center, Room 714, 77 West Jackson Blvd, Chicago, Illinois, or upon request of Jerome Kujawa at the address below.

DATES: Comments on the proposed agreement must be received by EPA on or before May 17, 2000.

ADDRESSES: Comments should be addressed to the Jerome Kujawa, U.S. Environmental Protection Agency, 77 West Jackson Boulevard, Chicago, Illinois, 60604-3590, and should refer to: In the Matter of Organic Chemical, Grandville, MI, U.S. EPA Docket No. V-W-00-C-581.

FOR FURTHER INFORMATION CONTACT: Jerome Kujawa, U.S. Environmental Protection Agency, Office of Regional Counsel, C-14J, 77 West Jackson Boulevard, Chicago, Illinois 60604-3590, telephone number is (312) 886-6731.

A copy of the proposed administrative settlement agreement may be obtained in person or by mail from the EPA's Region 5 Office of Regional Counsel, 77 West Jackson Boulevard, Chicago, Illinois, 60604-3590. Additional background information relating to the settlement is available for review at the EPA's Region 5 Record Center Room 714, at the above address.

Authority: The Comprehensive Environmental Response, Compensation, and Liability Act, as amended 42, U.S.C. 9601-9675.

William E. Muno,
Director, Superfund Division, Region 5.

[FR Doc. 00-9540 Filed 4-14-00; 8:45 am]

BILLING CODE 6560-50-M